ENVIRONMENTAL PROTECTION AGENCY

40 CFR Part 180

[EPA-HQ-OPP-2020-0053; FRL-9410-06-OCSPP]

Receipt of a Pesticide Petition Filed for Residues of Pesticide Chemicals in or on Various Commodities September 2022

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before November 23, 2022.

ADDRESSES: Submit your comments, identified by docket identification (ID) number EPA-HQ-OPP-2020-0053, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerances for Non-Inerts

PP1E8960. EPA-HQ-OPP-2022-0014. Interregional Research Project No. 4 (IR-4), IR-4 Project Headquarters, North Carolina State University, 1730 Varsity Drive, Venture IV, Suite 210, Raleigh, NC 27606, requests to remove the established tolerances for residues in 40 CFR 180.473, glufosinate ammonium, butanoic acid, 2-amino-4-hydroxymethylphosphinyl monoammonium salt, and its metabolites, 2-acetylamino-4-hydroxymethyl phosphinyl butanoic acid, and 3-hydroxymethylphosphinyl propanoic acid, expressed as 2-amino-4 hydroxymethylphosphinyl butanoic acid equivalents including its metabolites and degradates in or on the following raw agricultural plant commodities: Avocado at 0.03 parts per million (ppm); banana at 0.30 ppm; banana, pulp at 0.20 ppm; and fig at 0.07 ppm. Contact: RD.

B. New Tolerances for Non-Inerts

PP 1E8947. EPA-HQ-OPP-2021-0744. Syngenta Crop Protection, LLC, 410 Swing Road, Greensboro, NC 27409, requests to establish an import tolerance in 40 CFR part 180 for residues of the fungicide, fludioxonil in or on mango at 15 ppm and papaya at 8 ppm. The analytical method uses Syngenta Crop Protection Method AG-597B. This method has passed an EPA petition method validation for several commodities, which is currently the enforcement method used to measure and evaluate the chemical fludioxonil. Contact: RD.

PP 2F9013. EPA-HQ-OPP-2022-0732. Syngenta Crop Protection, LLC, P.O. Box 18300, Greensboro, NC 27419, requests to establish a tolerance in 40 CFR part 180 for residues of the lambda-cyhalothrin, in or on the raw agricultural commodity: Fruit, citrus, group 10-10 at 0.5 ppm; fruit, citrus, group 10-10, oil at 30 ppm; fruit, citrus, group 10-10, dried pulp at 3 ppm; rapeseed subgroup 20A at 1.0 ppm; rapeseed subgroup 20A, oil at 2.0 ppm; sunflower subgroup 20B at 0.2 ppm; and sunflower subgroup 20B, oil at 0.3 ppm. The ICI Method 81 PRAM 81 is used to measure and evaluate the chemical lambda-cyhalothrin and its epimer in plant matrices. Contact: RD.

C. New Tolerances for Non-Inerts

1. PP 1E8960. EPA-HQ-OPP-2022-0014. IR-4, IR-4 Project Headquarters, North Carolina State University, 1730 Varsity Drive, Venture IV, Suite 210, Raleigh, NC 27606, requests to establish tolerances in 40 CFR 180.473 for residues of glufosinate ammonium, butanoic acid, 2-amino-4-hydroxymethylphosphinyl monoammonium salt, and its metabolites, 2-acetylamino-4-hydroxymethyl phosphinyl butanoic acid, and 3-hydroxymethylphosphinyl propanoic acid, expressed as 2-amino-4 hydroxymethylphosphinyl butanoic acid equivalents in or on the following raw agricultural plant commodities: Tropical and subtropical, medium to large fruit, edible peel, subgroup 23B at 0.07 ppm; tropical and subtropical, medium to large fruit, smooth, inedible peel, subgroup 24B at 0.2 ppm; and tropical and subtropical, small fruit, inedible peel, subgroup 24A at 0.03 ppm. Additionally, IR-4 requests to establish tolerances with regional restrictions in 40 CFR 180.473 for residues of glufosinate ammonium in or on grass, forage at 0.15 ppm; and grass, hay at 0.2 ppm. A high-performance liquid chromatography-electrospray ionization/tandem mass spectrometry (LC/MS/MS). Contact: RD.

2. PP 2E9007. EPA-HQ-OPP-2022-0644. IR-4, IR-4 Project Headquarters, North Carolina State University, 1730 Varsity Drive, Venture IV, Suite 210, Raleigh, NC 27606, requests to establish a tolerance in 40 CFR 180.516 for residues of the fungicide, fludioxonil: 4-2, 2-difluoro-1,3-benzodioxol-4-yl-1-H-pyrrole-3-carbonitrile in or on cranberry at 0.04 ppm. Analytical method AG-597B was used to measure and evaluate the chemical. Contact: RD.

3. PP 2F9013. EPA-HQ-OPP-2022-0732. Syngenta Crop Protection, LLC, P.O. Box 18300, Greensboro, NC 27419, requests to establish a tolerance in 40 CFR part 180 for residues of the lambda-cyhalothrin, in or on the raw agricultural commodity: Fruit, citrus, group 10-10 at 0.5 ppm; fruit, citrus, group 10-10, oil at 30 ppm; fruit, citrus, group 10-10, dried pulp at 3 ppm; rapeseed subgroup 20A at 1.0 ppm; rapeseed subgroup 20A, oil at 2.0 ppm; sunflower subgroup 20B at 0.2 ppm; and sunflower subgroup 20B, oil at 0.3 ppm. The ICI Method 81 PRAM 81 is used to measure and evaluate the chemical lambda-cyhalothrin and its epimer in plant matrices. Contact: RD.

Authority: 21 U.S.C. 346a.

Dated: October 17, 2022.
Delores Barber,
Director, Information Technology and Resources Management Division, Office of Program Support.

[FR Doc. 2022-22979 Filed 10-21-22; 8:45 am]

BILLING CODE 6560-50-P